DEPARTMENT OF TRANSPORTATION

49 CFR Part 1

[Docket No. DOT-OST-1999-6189]

RIN 9991-AA56

Organization and Delegation of Powers and Duties; Assistant Secretary for Administration

AGENCY: Office of the Secretary of Transportation.

ACTION: Final rule.

SUMMARY: This rule delegates authorities vested in the Secretary of Transportation (Secretary) by the Energy Independence and Security Act of 2007 (Act) (Pub. L. 110-140; December 19, 2007) to the Assistant Secretary for Administration.

DATES: This rule is effective March 21, 2011.

FOR FURTHER INFORMATION CONTACT: Eugene Tumblin in the Office of Facilities, Information, and Asset Management at (202) 366-0266 or Brett Jortland in the Office of the General Counsel at (202) 366-9314.

SUPPLEMENTARY INFORMATION: On December 19, 2007, the Act was signed into law. Title 49 of the Code of Federal Regulations (CFR) 1.59 delegates to the Assistant Secretary for Administration the authority to carry out various functions and activities related to the mission of the agency vested in or delegated to the Secretary. The Secretary has determined that certain authority vested in the Secretary under the Act concerning DOT fleet management activities should be delegated to the Assistant Secretary for Administration. This rulemaking adds subparagraph (a)(7) to § 1.59 to reflect these delegations.

Since this amendment relates to departmental management, organization, procedure, and practice, notice and comment are unnecessary under 5 U.S.C. 553(b). Further, since the amendment expedites the Department's ability to meet the statutory intent of the applicable laws and regulations covered by this delegation, the Secretary finds good cause under 5 U.S.C. 553(d)(3) for the final rule to be effective on the date of publication in the Federal Register.

Regulatory Analyses and Notices

A. Executive Order 12866 and DOT Regulatory Policies and Procedures

The final rule is not considered a significant regulatory action under Executive Order 12866 and DOT Regulatory Policies and Procedures (44 FR 11034). There are no costs associated with this rule.

B. Executive Order 13132

This final rule has been analyzed in accordance with the principles and criteria contained in Executive Order 13132 (“Federalism”). This final rule does not have a substantial direct effect on, or sufficient federalism implications for, the States, nor would it limit the policymaking discretion of the States. Therefore, the consultation requirements of Executive Order 13132 do not apply.

C. Executive Order 13175

This final rule has been analyzed in accordance with the principles and criteria contained in Executive Order 13175 (“Consultation and Coordination with Indian Tribal Governments”). Because this final rule does not significantly or uniquely affect the communities of the Indian tribal governments and does not impose substantial direct compliance costs, the funding and consultation requirements of Executive Order 13175 do not apply.

D. Regulatory Flexibility Act

No notice of proposed rulemaking is required for this rule under the Administrative Procedure Act, 5 U.S.C. 553, so the provisions of the Regulatory Flexibility Act (5 U.S.C. 601 et seq.) do not apply. This rule will impose no costs on small entities because it simply delegates authority from one official to another. Therefore, I certify this final rule will not have a significant economic impact on a substantial number of small businesses.

E. Paperwork Reduction Act

This rule contains no information collection requirements under the Paperwork Reduction Act of 1995 (44 U.S.C. 3501-3520).

F. Unfunded Mandates Reform Act

The Department of Transportation has determined that the requirements of Title II of the Unfunded Mandates Reform Act of 1995 do not apply to this rulemaking.

List of Subjects in 49 CFR Part 1

Authority delegations (Government agencies), Organization and functions (Government agencies).

For the reasons set forth in the preamble, the Office of the Secretary of Transportation amends 49 CFR part 1 as follows:

PART 1—[AMENDED]

1. The authority citation for part 1 continues to read as follows:

Authority: 49 U.S.C. 322; 46 U.S.C. 2104(a); 28 U.S.C. 2672; 31 U.S.C. 3711(a)(2); Pub. L. 101-552, 104 Stat. 2736; Pub. L. 106-159, 113 Stat. 1748; Pub. L. 107-71, 115 Stat. 597; Pub. L. 107-295, 116 Stat. 2064; Pub. L. 108-136, 117 Stat. 1392; Pub. L. 101-115, 103 Stat. 691; Pub. L. 108-293, 118 Stat. 1028; Pub. L. 109-364, 120 Stat. 2083; Pub. L. 110-140, 121 Stat. 1492; Pub. L. 110-432, 122 Stat. 4848.

2. In § 1.59, add paragraph (a)(7) to read as follows:

§ 1.50 Delegations to the Assistant Secretary for Administration.

* * * * *

(a) * * *

(7) Carry out the duties and responsibilities of the agency head for departmental fleet management, acquisition and replacement of vehicles pursuant to the Energy Independence and Security Act of 2007.

* * * * *

Dated: February 28, 2011.
Ray LaHood,
Secretary of Transportation.

[FR Doc. 2011-6519 Filed 3-18-11; 8:45 am]

BILLING CODE 4910-9X-P